DEPARTMENT OF DEFENSE

GENERAL SERVICES ADMINISTRATION

NATIONAL AERONAUTICS AND SPACE ADMINISTRATION

48 CFR Chapter 1

[Docket FAR-2008-0003, Sequence 1]

Federal Acquisition Regulation; Federal Acquisition Circular 2005-26; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator of the National Aeronautics and Space Administration. This Small Entity Compliance Guide has been prepared in accordance with Section 212 of the Small Business Regulatory Enforcement Fairness Act of 1996. It consists of a summary of the rule appearing in Federal Acquisition Circular (FAC) 2005-26 which amends the FAR. Interested parties may obtain further information regarding this rule by referring to FAC 2005-26 which precedes this document. These documents are also available via the Internet at http://www.regulations.gov.

FOR FURTHER INFORMATION CONTACT Laurieann Duarte, FAR Secretariat, (202) 501-4225. For clarification of content, contact the analyst whose name appears in the table below.

Rule Listed in FAC 2005-26
Subject | FAR case | Analyst
Prohibition on Restricted Business Operations in Sudan and Imports from Burma (Interim) | 2008-004 | Murphy.

SUPPLEMENTARY INFORMATION: A summary of the FAR rule follows. For the actual revisions and/or amendments to this FAR case, refer to FAR Case 2008-004. FAC 2005-26 amends the FAR as specified below:

Prohibition on Restricted Business Operations in Sudan and Imports from Burma (FAR Case 2008-004) (Interim)

This interim rule amends FAR Subparts 4.12, 15.1, 25.7, 25.11, and Part 52 to implement Section 6 of the Sudan Accountability and Divestment Act of 2007, and Executive Orders 13310 and 13448. Section 6 requires certification that the contractor does not conduct certain business operations in Sudan. This case also updates the list of countries from which most imports are prohibited, to reflect Burma as well as Sudan.

Dated: June 6, 2008.
Al Matera,
Director, Office of Acquisition Policy.

[FR Doc. E8-13152 Filed 6-11-08; 8:45 am]

BILLING CODE 6820-EP-S